DEPARTMENT OF HOUSING AND URBAN DEVELOPMENT

[Docket No. FR-4901-N-23]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Burruss, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Heather Ranson, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Mr. Albert F. Lowas, Jr., Air Force Real Property Agency, 1700 North Moore Street, Suite 2300, Arlington, VA 22209-2802; (703) 696-5501; Coe: Ms. Shirley Middleswarth, Army Corps of Engineers, Civil Division, Directorate of Real Estate, 441 G Street, NW., Washington, DC 20314-1000; (202) 761-7425; Coast Guard: Commandant, United States Coast Guard, Attn: Teresa Sheinberg, 2100 Second St., SW., Rm 6109, Washington, DC 20314-1000; (202) 267-6142; GSA: Mr. Brian K. Polly, Assistant Commissioner, General Services Administration, Office of Property Disposal, 18th and F Streets, NW., Washington, DC 20405; (202) 501-0084; Energy: Mr. Andy Duran, Department of Energy, Office of Engineering & Construction Management, ME-90, 1000 Independence Ave., SW., Washington, DC 20585; (202) 586-4548; Navy: Mr. Charles C. Cocks, Director, Department of the Navy, Real Estate Policy Division, Naval Facilities Engineering Command, Washington Navy Yard, 1322 Patterson Ave., SE., Suite 1000, Washington, DC 20374-5065; (202) 685-9200. (These are not toll-free numbers.)

Dated: May 27, 2004.
Mark R. Johnston,
Acting Director, Office of Special Needs Assistance Programs.

Title V, Federal Surplus Property Program Federal Register Report for 6/4/04

Suitable/Available Properties

Buildings (by State)

California

Bldg. 29

Naval Base Point Loma

San Diego Co: CA

Landholding Agency: Navy

Property Number: 77200420038

Status: Excess

Comment: 40x28x15 metal bldg., most recent use—storage, off-site use only

Kentucky

Comfort Station

Rough River Lake

Grayson Co: KY

Landholding Agency: COE

Property Number: 31200420004

Status: Unutilized

Comment: 160 sq. ft., concrete block, off-site use only

Ranger Residence

420 South Willow

Morehead Co: KY

Landholding Agency: GSA

Property Number: 54200420016

Status: Excess

Comment: 1860 sq. ft., possible asbestos/lead paint, GSA Number: 4-A-KY-0615

Maryland

SSA Building

6400 Old Branch Avenue

Prince Georges Co: Temple Hills MD 20748

Landholding Agency: GSA

Property Number: 54200420019

Status: Excess

Comment: 7232 sq. ft. office space in an industrial area, GSA Number: MD(R11)1102

Pennsylvania

SSA Bldg.

330 West Main Street

West Chester Co: Chester PA 19382-

Landholding Agency: GSA

Property Number: 54200420018

Status: Surplus

Comment: 8395 sq. ft. office building, roof repair needed, GSA Number: 4-G-PA-0793

South Dakota

Tract 155

Oahe Dam/Lake Oahe

Pierre Co: Hughes SD 57501-

Landholding Agency: COE

Property Number: 31200420019

Status: Excess

Comment: 1008 sq. ft. residence, off-site use only

Tract 806

Oake Dam/Lake Oahe

Ft. Pierre Co: Stanley SD 57532-

Landholding Agency: COE

Property Number: 31200420020

Status: Excess

Comment: 1624 sq. ft. residence, off-site use only

Land (by State)

Virginia

5.53 acres

Deep Creek

Chesapeake Co: VA 23322-4094

Landholding Agency: GSA

Property Number: 54200420020

Status: Surplus

Comment: 5.53 acres, GSA Number: 4-N-VA-0745

Suitable/Unavailable Properties

Buildings (by State)

Washington

22 Bldgs./Geiger Heights

Fairchild AFB

Spokane Co: WA 99224-

Landholding Agency: Air Force

Property Number: 18200420001

Status: Unutilized

Comment: 1625 sq. ft., possible asbestos/lead paint, most recent use—residential

Bldg. 404/Geiger Heights

Fairchild AFB

Spokane Co: WA 99224-

Landholding Agency: Air Force

Property Number: 18200420002

Status: Unutilized

Comment: 1996 sq. ft, possible asbestos/lead paint, most recent use—residential

11 Bldgs./Geiger Heights

Fairchild AFB

Spokane Co: WA 99224-

Landholding Agency: Air Force

Property Number: 18200420003

Status: Unutilized

Comment: 2134 sq. ft., possible asbestos/lead paint, most recent use—residential

Bldg. 297/Geiger Heights

Fairchild AFB

Spokane Co: WA 99224-

Landholding Agency: Air Force

Property Number: 18200420004

Status: Unutilized

Comment: 1425 sq. ft., possible asbestos/lead paint, most recent use—residential

9 Bldgs./Geiger Heights

Fairchild AFB

Spokane Co: WA 99224-

Landholding Agency: Air Force

Property Number: 18200420005

Status: Unutilized

Comment: 1620 sq. ft., possible asbestos/lead paint, most recent use—residential

22 Bldgs./Geiger Heights

Fairchild AFB

Spokane Co: WA 99224-

Landholding Agency: Air Force

Property Number: 18200420006

Status: Unutilized

Comment: 2850 sq. ft., possible asbestos/lead paint, most recent use—residential

51 Bldgs./Geiger Heights

Fairchild AFB

Spokane Co: WA 99224-

Landholding Agency: Air Force

Property Number: 18200420007

Status: Unutilized

Comment: 2574 sq. ft., possible asbestos/lead paint, most recent use—residential

Bldg. 402/Geiger Heights

Fairchild AFB

Spokane Co: WA 99224-

Landholding Agency: Air Force

Property Number: 18200420008

Status: Unutilized

Comment: 2451 sq. ft., possible asbestos/lead paint, most recent use—residential

5 Bldgs./Geiger Heights

Fairchild AFB

222, 224, 271, 295, 260

Spokane Co: WA 99224-

Landholding Agency: Air Force

Property Number: 18200420009

Status: Unutilized

Comment: 3043 sq. ft., possible asbestos/lead paint, most recent use—residential

5 Bldgs./Geiger Heights

Fairchild AFB

102, 183, 118, 136, 113

Spokane Co: WA 99224-

Landholding Agency: Air Force

Property Number: 18200420010

Status: Unutilized

Comment: 2599 sq. ft., possible asbestos/lead paint, most recent use—residential

Unsuitable Properties

Buildings (by State)

Alaska

7 Bldgs.

Coast Guard

L05B thru L05K

Homer Co: AK 99603-

Landholding Agency: Coast Guard

Property Number: 88200420006

Status: Excess

Reasons: Secured Area, Extensive deterioration

California

Bldg. 972

Naval Air Station

Lemoore Co: CA

Landholding Agency: Navy

Property Number: 77200420039

Status: Excess

Reason: Extensive deterioration

Bldgs. 26, 27, 28

Naval Outlying Landing Field

Imperial Beach Co: CA

Landholding Agency: Navy

Property Number: 77200420040

Status: Excess

Reason: Extensive deterioration

Bldg. 99

Naval Base

San Diego Co: CA

Landholding Agency: Navy

Property Number: 77200420041

Status: Excess

Reason: Extensive deterioration

Bldg. 197

Naval Base

San Diego Co: CA

Landholding Agency: Navy

Property Number: 77200420042

Status: Excess

Reason: Extensive deterioration

Bldg. 3139

Naval Base

San Diego Co: CA

Landholding Agency: Navy

Property Number: 77200420043

Status: Excess

Reason: Extensive deterioration

Bldg. 135

Naval Base

San Diego Co: CA

Landholding Agency: Navy

Property Number: 77200420044

Status: Excess

Reason: Extensive deterioration

Bldg. 253

Naval Base

San Diego Co: CA

Landholding Agency: Navy

Property Number: 77200420045

Status: Excess

Reason: Extensive deterioration

Bldg. 68

Naval Weapons Station

Seal Beach Co: CA 90740-5000

Landholding Agency: Navy

Property Number: 77200420046

Status: Unutilized

Reason: Extensive deterioration

Bldgs. 72-73

Naval Weapons Station

Seal Beach Co: CA 90740-5000

Landholding Agency: Navy

Property Number: 77200420047

Status: Unutilized

Reason: Extensive deterioration

Bldg. 76

Naval Weapons Station

Seal Beach Co: CA 90740-5000

Landholding Agency: Navy

Property Number: 77200420048

Status: Unutilized

Reason: Extensive deterioration

Bldgs. 81-84

Naval Weapons Station

Seal Beach Co: CA 90740-5000

Landholding Agency: Navy

Property Number: 77200420049

Status: Unutilized

Reason: Extensive deterioration

Bldg. 91

Naval Weapons Station

Seal Beach Co: CA 90740-5000

Landholding Agency: Navy

Property Number: 77200420050

Status: Unutilized

Reason: Extensive deterioration

Bldgs. 93-94

Naval Weapons Station

Seal Beach Co: CA 90740-5000

Landholding Agency: Navy

Property Number: 77200420051

Status: Unutilized

Reason: Extensive deterioration

Bldgs. 98-104

Naval Weapons Station

Seal Beach Co: CA 90740-5000

Landholding Agency: Navy

Property Number: 77200420052

Status: Unutilized

Reason: Extensive deterioration

Bldg. 108

Naval Weapons Station

Seal Beach Co: CA 90740-5000

Landholding Agency: Navy

Property Number: 77200420057

Status: Unutilized

Reason: Extensive deterioration

Bldg. 599

Naval Weapons Station

Seal Beach Co: CA 90740-5000

Landholding Agency: Navy

Property Number: 77200420058

Status: Unutilized

Reason: Extensive deterioration

Idaho

Bldg. PBF 731

Idaho Natl Eng & Env Laboratory

Scovile Co: Butte ID 83415-

Landholding Agency: Energy

Property Number: 41200420023

Status: Excess

Reason: Secured Area

Illinois

Bldgs. 329, 317B

Argonne Natl Laboratory

Argonne Co: DuPage IL 60439-

Landholding Agency: Energy

Property Number: 41200420024

Status: Excess

Reason: Secured Area

Kentucky

Tract 1379

Barkley Lake & Dam

Eddyville Co: Lyon KY 42038-

Landholding Agency: COE

Property Number: 31200420001

Status: Unutilized

Reason: Landlocked

Tract 4300

Barkley Lake & Dam

Cadiz Co: Trigg KY 42211-

Landholding Agency: COE

Property Number: 31200420002

Status: Unutilized

Reason: Floodway

Tracts 317, 318, 319

Barkley Lake & Dam

Grand Rivers Co: Lyon KY 42045-

Landholding Agency: COE

Property Number: 31200420003

Status: Unutilized

Reason: Floodway

Mississippi

Bldgs. H-1-2004

Naval Air Station

Meridian Co: MS 39309-

Landholding Agency: Navy

Property Number: 77200420053

Status: Unutilized

Reasons: Secured Area; Extensive deterioration

Missouri

House

Tract 1105

Thurnau Mitigation Site

Craig Co: Holt MO 64437-

Landholding Agency: COE

Property Number: 31200420005

Status: Unutilized

Reason: Extensive deterioration

30x36 Barn

Tract 1105

Thurnau Mitigation Site

Craig Co: Holt MO 64437-

Landholding Agency: COE

Property Number: 31200420006

Status: Unutilized

Reason: Extensive deterioration

30x26 Barn

Tract 1105

Thurnau Mitigation Site

Craig Co: Holt MO 64437-

Landholding Agency: COE

Property Number: 31200420007

Status: Unutilized

Reason: Extensive deterioration

30x10 Shed

Tract 1105

Thurnau Mitigation Site

Craig Co: Holt MO 64437-

Landholding Agency: COE

Property Number: 31200420008

Status: Unutilized

Reason: Extensive deterioration

30x26 Shed

Tract 1105

Thurnau Mitigation Site

Craig Co: Holt MO 64437-

Landholding Agency: COE

Property Number: 31200420009

Status: Unutilized

Reason: Extensive deterioration

9x9 Shed

Tract 1105

Thurnau Mitigation Site

Craig Co: Holt MO 64437-

Landholding Agency: COE

Property Number: 31200420010

Status: Unutilized

Reason: Extensive deterioration

Tract 1111

Thurnau Mitigation Site

Craig Co: Holt MO 64437-

Landholding Agency: COE

Property Number: 31200420011

Status: Excess

Reason: Extensive deterioration

Shower

Pomme de Terre Lake

Hermitage Co: Polk MO 65668-

Landholding Agency: COE

Property Number: 31200420012

Status: Unutilized

Reason: Extensive deterioration

New York

Army Reserve Center

Corning Co: Steuben NY 14830-2098

Landholding Agency: GSA

Property Number: 54200420017

Status: Excess

Reason: Within 2000 ft. of flammable or explosive material, GSA Number: 1-D-NY-0896

North Carolina

Bldg. #2-17009

Cape Fear River Lock/Dam

Elizabeth Co: Bladen NC 28337-

Landholding Agency: COE

Property Number: 31200420013

Status: Unutilized

Reason: Extensive deterioration

10 Bldgs.

Kerr Scott Project

Wilkesboro Co: Wilkes NC 28697-7462

Location: WKS16334-16335, 17334-17337, 18227-18228, 18864-18865

Landholding Agency: COE

Property Number: 31200420014

Status: Unutilized

Reason: Extensive deterioration

5 Bldgs.

Kerr Scott Project

Wilkesboro Co: Wilkes NC 28697-7462

Location: WKS15830, 17268, 18687, 18875, 26808

Landholding Agency: COE

Property Number: 31200420015

Status: Unutilized

Reason: Extensive deterioration

Bldgs. WKS16426, 16427, 25928

Kerr Scott Project

Wilkesboro Co: Wilkes NC 28697-7462

Landholding Agency: COE

Property Number: 31200420016

Status: Unutilized

Reason: Extensive deterioration

Bldgs. WKS18234, 18337

Kerr Scott Project

Wilkesboro Co: Wilkes NC 28697-7462

Landholding Agency: COE

Property Number: 31200420017

Status: Unutilized

Reason: Extensive deterioration

Bldg. WKS18691

Kerr Scott Project

Wilkesboro Co: Wilkes NC 28697-7462

Landholding Agency: COE

Property Number: 31200420018

Status: Unutilized

Reason: Extensive deterioration

South Carolina

Bldgs. 183-1R, 183-2R

Savannah River Operations

Aiken Co: SC 29802-

Landholding Agency: Energy

Property Number: 41200420025

Status: Unutilized

Reason: Secured Area

Bldg. 186-C

Savannah River Operations

Aiken Co: SC 29802-

Landholding Agency: Energy

Property Number: 41200420026

Status: Unutilized

Reason: Secured Area

Bldgs. 186-K, 186-1K

Savannah River Operations

Aiken Co: SC 29802-

Landholding Agency: Energy

Property Number: 41200420027

Status: Unutilized

Reason: Secured Area

Bldgs. 186-P, 186-1P

Savannah River Operations

Aiken Co: SC 29802-

Landholding Agency: Energy

Property Number: 41200420028

Status: Unutilized

Reason: Secured Area

Bldg. 190-C

Savannah River Operations

Aiken Co: SC 29802-

Landholding Agency: Energy

Property Number: 41200420029

Status: Unutilized

Reason: Secured Area

Bldg. 190-K

Savannah River Operations

Aiken Co: SC 29802-

Landholding Agency: Energy

Property Number: 41200420030

Status: Unutilized

Reason: Secured Area

Bldg. 190-P

Savannah River Operations

Aiken Co: SC 29802-

Landholding Agency: Energy

Property Number: 41200420031

Status: Unutilized

Reason: Secured Area

Tennessee

Comfort Station/Land

Cook Campground

Nashville Co: Davidson TN 37214-

Landholding Agency: COE

Property Number: 31200420024

Status: Unutilized

Reason: Floodway

Texas

Bldg. 1423

Naval Air Station

Ft. Worth Co: Tarant TX

Landholding Agency: Navy

Property Number: 77200420054

Status: Unutilized

Reasons: Secured Area; Extensive deterioration

Bldg. 1560

Naval Air Station

Ft. Worth Co: Tarrant TX

Landholding Agency: Navy

Property Number: 77200420055

Status: Unutilized

Reasons: Secured Area; Extensive deterioration

Land (by State)

Tennessee

Tract F-608

Cheatham Lock & Dam

Ashland Co: Cheatham TN 37015-

Landholding Agency: COE

Property Number: 31200420021

Status: Unutilized

Reason: Floodway

Tracts G702-G706

Cheatham Lock & Dam

Ashland Co: Cheatham TN 37015-

Landholding Agency: COE

Property Number: 31200420022

Status: Unutilized

Reason: Floodway

6 Tracts

Shutes Branch Campground

Lakewood Co: Wilson TN

Landholding Agency: COE

Property Number: 31200420023

Status: Unutilized

Reason: Floodway

Washington

900 sq. ft. plot

Naval Submarine Base

Bangor Co: WA

Landholding Agency: Navy

Property Number: 77200420056

Status: Unutilized

Reasons: Within 2000 ft. of flammable or explosive material; Secured Area

[FR Doc. 04-12337 Filed 6-3-04; 8:45 am]

BILLING CODE 4210-29-P